DEPARTMENT OF ENERGY

Federal Energy Regulatory Commission

Combined Notice of Filings #1

Take notice that the Commission received the following electric corporate filings:

Docket Numbers: EC24-81-000.

Applicants: Tri-State Generation and Transmission Association, Inc.

Description: Application for Authorization Under Section 203 of the Federal Power Act of Tri-State Generation and Transmission Association, Inc.

Filed Date: 5/24/24.

Accession Number: 20240524-5228.

Comment Date: 5 p.m. ET 6/14/24.

Take notice that the Commission received the following exempt wholesale generator filings:

Docket Numbers: EG24-190-000.

Applicants: Keydet Solar Center, LLC.

Description: Keydet Solar Center, LLC submits Notice of Self-Certification of Exempt Wholesale Generator Status.

Filed Date: 5/28/24.

Accession Number: 20240528-5150.

Comment Date: 5 p.m. ET 6/18/24.

Docket Numbers: EG24-191-000.

Applicants: EMPOWER TXMX, LLC.

Description: Empower TXMX, LLC submits Notice of Self-Certification of Exempt Wholesale Generator Status.

Filed Date: 5/28/24.

Accession Number: 20240528-5279.

Comment Date: 5 p.m. ET 6/18/24.

Take notice that the Commission received the following electric rate filings:

Docket Numbers: ER10-1257-009.

Applicants: Wabash Valley Power Association, Inc.

Description: Emergency Motion to Intervene Out-of-Time, request that the Commission revoke Walley Power Association, Inc.'s blanket Section 204 authorization, and request for certain clarifications etc. of Citizens Electric Corporation.

Filed Date: 5/10/24.

Accession Number: 20240510-5193.

Comment Date: 5 p.m. ET 6/18/24.

Docket Numbers: ER10-1257-010.

Applicants: Wabash Valley Power Association, Inc.

Description: Notice of Non-Material Change in Status of Wabash Valley Power Association, Inc.

Filed Date: 5/28/24.

Accession Number: 20240528-5269.

Comment Date: 5 p.m. ET 6/18/24.

Docket Numbers: ER20-1992-005.

Applicants: Public Service Company of New Mexico.

Description: Compliance filing: Compliance with Commission Order to be effective 1/27/2020.

Filed Date: 5/24/24.

Accession Number: 20240524-5192.

Comment Date: 5 p.m. ET 6/14/24.

Docket Numbers: ER24-10-001.

Applicants: Idaho Power Company.

Description: Compliance filing: Order 2023-A Compliance Filing to be effective 1/1/2024.

Filed Date: 5/28/24.

Accession Number: 20240528-5189.

Comment Date: 5 p.m. ET 6/18/24.

Docket Numbers: ER24-1559-001.

Applicants: Puget Sound Energy, Inc.

Description: Compliance filing: Refiling of Order 2023-A Compliance—Annexes A and B to be effective 12/31/9998.

Filed Date: 5/24/24.

Accession Number: 20240524-5177.

Comment Date: 5 p.m. ET 6/14/24.

Docket Numbers: ER24-1651-001.

Applicants: Renew Home VPP, LLC.

Description: Tariff Amendment: Amendment to 1 to be effective 3/30/2024.

Filed Date: 5/28/24.

Accession Number: 20240528-5121.

Comment Date: 5 p.m. ET 6/18/24.

Docket Numbers: ER24-2084-001.

Applicants: American Electric Power Service Corporation, PJM Interconnection, L.L.C.

Description: Tariff Amendment: American Electric Power Service Corporation submits tariff filing per 35.17(b): Amendment to CIAC, SA No. 6679 to be effective 5/23/2024.

Filed Date: 5/24/24.

Accession Number: 20240524-5137.

Comment Date: 5 p.m. ET 6/14/24.

Docket Numbers: ER24-2099-000.

Applicants: Pacific Gas and Electric Company.

Description: § 205(d) Rate Filing: May 2024 Western Interconnection Biannual Filing to be effective 8/1/2024.

Filed Date: 5/24/24.

Accession Number: 20240524-5135.

Comment Date: 5 p.m. ET 6/14/24.

Docket Numbers: ER24-2100-000.

Applicants: PJM Interconnection, L.L.C.

Description: § 205(d) Rate Filing: Amendment to ISA, SA No. 5689; Queue No. AF1-193 (amend) to be effective 7/24/2024.

Filed Date: 5/24/24.

Accession Number: 20240524-5155.

Comment Date: 5 p.m. ET 6/14/24.

Docket Numbers: ER24-2101-000.

Applicants: Hardin Solar Energy III LLC.

Description: Baseline eTariff Filing: Shared Facilities Agreement to be effective 5/25/2024.

Filed Date: 5/24/24.

Accession Number: 20240524-5178.

Comment Date: 5 p.m. ET 6/14/24.

Docket Numbers: ER24-2102-000.

Applicants: PJM Interconnection, L.L.C.

Description: § 205(d) Rate Filing: Amendment to WMPA SA No. 6374, Queue No. AG1-360 (amend) to be effective 7/29/2024.

Filed Date: 5/28/24.

Accession Number: 20240528-5138.

Comment Date: 5 p.m. ET 6/18/24.

Docket Numbers: ER24-2103-000.

Applicants: Keydet Solar Center, LLC.

Description: Baseline eTariff Filing: Keydet Solar Center, LLC MBR Tariff to be effective 6/1/2024.

Filed Date: 5/28/24.

Accession Number: 20240528-5144.

Comment Date: 5 p.m. ET 6/18/24.

Docket Numbers: ER24-2104-000.

Applicants: NSTAR Electric Company.

Description: § 205(d) Rate Filing: Amended and Restated Settlement Transmission Support Agreement to be effective 7/28/2024.

Filed Date: 5/28/24.

Accession Number: 20240528-5172.

Comment Date: 5 p.m. ET 6/18/24.

Docket Numbers: ER24-2105-000.

Applicants: PJM Interconnection, L.L.C.

Description: § 205(d) Rate Filing: Original NSA Service Agreement No. 7248, Queue No. AC2-015 to be effective 7/28/2024.

Filed Date: 5/28/24.

Accession Number: 20240528-5233.

Comment Date: 5 p.m. ET 6/18/24.

Docket Numbers: ER24-2106-000.

Applicants: PJM Interconnection, L.L.C.

Description: § 205(d) Rate Filing: Original GIA, Service Agreement No. 7247; AF1-228 to be effective 4/26/2024.

Filed Date: 5/28/24.

Accession Number: 20240528-5245.

Comment Date: 5 p.m. ET 6/18/24.

Docket Numbers: ER24-2107-000.

Applicants: AEP Texas Inc.

Description: § 205(d) Rate Filing: AEPTX—Texas-New Mexico Power Company Facilities Development Agreement to be effective 5/15/2024.

Filed Date: 5/28/24.

Accession Number: 20240528-5257.

Comment Date: 5 p.m. ET 6/18/24.

Docket Numbers: ER24-2108-000.

Applicants: Southwestern Public Service Company.

Description: § 205(d) Rate Filing: 2024-05-28 GSEC-RBEC-High Lonesome-IA-752-0.0.0 to be effective 7/27/2024.

Filed Date: 5/28/24.

Accession Number: 20240528-5258.

Comment Date: 5 p.m. ET 6/18/24.

Docket Numbers: ER24-2109-000.

Applicants: Southwestern Public Service Company.

Description: § 205(d) Rate Filing: 2024-05-28 WFEC-CVEC-Hope-IA-755-0.0.0 to be effective 7/27/2024.

Filed Date: 5/28/24.

Accession Number: 20240528-5261.

Comment Date: 5 p.m. ET 6/18/24.

Docket Numbers: ER24-2110-000.

Applicants: PJM Interconnection, L.L.C.

Description: § 205(d) Rate Filing: Original GIA, Service Agreement No. 7242; AF1-229 to be effective 4/26/2024.

Filed Date: 5/28/24.

Accession Number: 20240528-5268.

Comment Date: 5 p.m. ET 6/18/24.

Docket Numbers: ER24-2111-000.

Applicants: AEP Texas Inc.

Description: § 205(d) Rate Filing: AEPTX—Black Mountain Energy Storage II Interconnection Agreement to be effective 5/8/2024.

Filed Date: 5/28/24.

Accession Number: 20240528-5273.

Comment Date: 5 p.m. ET 6/18/24.

Docket Numbers: ER24-2112-000.

Applicants: Public Service Company of New Mexico.

Description: § 205(d) Rate Filing: Phase Shifter Transformer—Rate Schedule No. 196 to be effective 5/10/2024.

Filed Date: 5/28/24.

Accession Number: 20240528-5280.

Comment Date: 5 p.m. ET 6/18/24.

Docket Numbers: ER24-2113-000.

Applicants: PJM Interconnection, L.L.C.

Description: § 205(d) Rate Filing: Original CSA, Service Agreement No. 7243; AF1-229 to be effective 4/26/2024.

Filed Date: 5/28/24.

Accession Number: 20240528-5283.

Comment Date: 5 p.m. ET 6/18/24.

Docket Numbers: ER24-2114-000.

Applicants: Northern States Power Company, a Minnesota corporation.

Description: § 205(d) Rate Filing: 2024-05-28 CAPX2020 Brookings2 Joint Dev Agmt 749-0.1.0-Amnd to be effective 5/3/2024.

Filed Date: 5/28/24.

Accession Number: 20240528-5285.

Comment Date: 5 p.m. ET 6/18/24.

Docket Numbers: ER24-2115-000.

Applicants: PJM Interconnection, L.L.C.

Description: § 205(d) Rate Filing: Original CSA, Service Agreement No. 7244; AF1-229 to be effective 4/26/2024.

Filed Date: 5/28/24.

Accession Number: 20240528-5295.

Comment Date: 5 p.m. ET 6/18/24.

Take notice that the Commission received the following public utility holding company filings:

Docket Numbers: PH24-11-000.

Applicants: Dow Inc.

Description: Dow Inc. submits FERC 65-A Exemption Notification.

Filed Date: 5/28/24.

Accession Number: 20240528-5274.

Comment Date: 5 p.m. ET 6/18/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 28, 2024.
Debbie-Anne A. Reese,
Acting Secretary.

[FR Doc. 2024-12094 Filed 5-31-24; 8:45 am]

BILLING CODE 6717-01-P